DEPARTMENT OF DEFENSE

Office of the Secretary

Membership of the Defense Contract Audit Agency Senior Executive Service Performance Review Boards

AGENCY: Defense Contract Audit Agency, DoD.

ACTION: Notice.

SUMMARY: This notice announces the appointment of members to the Defense Contract Audit Agency (DCAA) Performance Review Boards. The Performance Review Boards provide fair and impartial review of Senior Executive Service (SES) performance appraisals and make recommendations to the Director, Defense Contract Audit Agency, regarding final performance ratings and performance awards for DCAA SES members.

EFFECTIVE DATES: Upon publication of this notice in the Federal Register.

FOR FURTHER INFORMATION CONTACT: Mr. Dale R. Collins, Chief, Human Resources Management Division, Defense Contract Audit Agency, 8725 John J. Kingman Road, Suite 2135, Fort Belvoir, Virginia 22060-6219, (703) 767-1039.

SUPPLEMENTARY INFORMATION: In accordance with 5 U.S.C. 4314(c)(4), the following are the names and titles of DCAA career executives appointed to serve as members of the DCAA Performance Review Boards. Appointees will serve one-year terms, effective upon publication of this notice.

Headquarters Performance Review Board

Mr. Earl Newman, Assistant Director, Operations, DCAA, Chairperson.

Mr. Robert DiMucci, Assistant Director, Policy and Plans, DCAA, member.

TBA, General Counsel, DCAA, member.

Regional Performance Review Board

Mr. William Serafine, Regional Director, Western Region, DCAA, Chairperson.

Mr. Michael Steen, Regional Director, Eastern Region, DCAA, member.

Mr. Edward Nelson, Deputy Regional Director, Central Region, DCAA, member.

Dated: June 6, 2003.
Patricia L. Toppings,
Alternate OSD Federal Register Liaison Officer, Department of Defense.

[FR Doc. 03-15037 Filed 6-13-03; 8:45 am]

BILLING CODE 5001-08-M